DEPARTMENT OF COMMERCE

National Oceanic and Atmospheric Administration

50 CFR Part 635

[I.D. 082901B]

Atlantic Highly Migratory Species (HMS) Fisheries; Large Coastal Shark Species

AGENCY: National Marine Fisheries Service (NMFS), National Oceanic and Atmospheric Administration (NOAA), Commerce.

ACTION: Postponement of closure; fishing season notification.

SUMMARY: NMFS notifies eligible participants of the commercial fishery for large coastal sharks (LCS) in the Western North Atlantic Ocean, including the Gulf of Mexico and the Caribbean Sea, which was scheduled to be closed on August 31, 2001, at 11:30 p.m. local time, has been extended to September 4, 2001, at 11:30 p.m. local time.

DATES: The commercial fishery for LCS will close on September 4, 2001, at 11:30 p.m. local time through December 31, 2001.

FOR FURTHER INFORMATION CONTACT: Christopher Rogers or Karyl Brewster-Geisz, 301-713-2347; fax 301-713-1917.

SUPPLEMENTARY INFORMATION: The Atlantic shark fishery is managed under the Fishery Management Plan for Atlantic Tunas, Swordfish, and Sharks, and its implementing regulations found at 50 CFR part 635 issued under authority of the Magnuson-Stevens Fishery Conservation and Management Act (16 U.S.C. 1801 et seq.).

On June 26, 2001, NMFS announced in the Federal Register (66 FR 33918) that the LCS commercial quota for the second semi-annual 2001 fishing season was 697 metric tons (mt) dressed weight (dw). Additionally, NMFS announced that, based on past catch rates, the LCS fishery would close on August 31, 2001. As of July 31, 2001, approximately 331 mt dw, or 47 percent of the available quota, had been reported landed. Extending the season should ensure that eligible participants have an adequate opportunity to harvest the available quota.

Commercial fishing for pelagic and small coastal sharks may continue until further notice. When quotas for these species are projected to be reached, NMFS will file notice of closure at the Office of the Federal Register.

This action is taken under 50 CFR part 635 and is exempt from review under Executive Order 12866.

Authority: 16 U.S.C. 1801 et seq.

Dated: August 29, 2001.
Richard W. Surdi
Acting Director, Office of Sustainable Fisheries, National Marine Fisheries Service.

[FR Doc. 01-22160 Filed 8-29-01; 4:49 pm]

BILLING CODE 3510-22-S